DEPARTMENT OF DEFENSE

Office of the Secretary

Submission for OMB Review; Comment Request

ACTION: Notice.

The Department of Deffense has submitted to OMB for clearance, the following proposal for collection of information under the provisions of the Paperwork Reduction Act (44 U.S.C. Chapter 35).

Title, Form, and OMB Number: National Security Education Program (Service Agreement Report for Scholarship and Fellowship Awards); DD Forms 2752, 2753; OMB Number 0704-0368.

Type of Request: Extension.

Number of Respondents: 300.

Responses Per Respondent: 2.

Annual Responses: 600.

Average Burden Per Response: 20 minutes.

Annual Burden Hours: 100.

Needs and Uses: The information collection requirement is necessary to obtain verification that applicable scholarship and fellowship recipients are fulfilling service obligations mandated by the National Security Education Act of 1991, Title VIII of Pub. L. 102-183, as amended. DD Form 2752 is the Service Agreement that award recipients sign in order to acknowledge their understanding of the service obligation, and agree to the obligation. DD Form 2753 is the Service Agreement Report Form on which the student provides an account of his or her work toward fulfilling the service obligation, or justifies a request for deferment.

Affected Public: Individuals or Households.

Frequency: Semi-Annually.

Respondent's Obligation: Mandatory.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 24, 2001.
Patricia L. Toppings,
Alternate OSD Federal Register Liaison Officer, Department of Defense.

[FR Doc. 01-2698 Filed 1-31-01; 8:45 am]

BILLING CODE 5001-10-M